DEPARTMENT OF THE INTERIOR

National Park Service

[NPS-WASO-NAGPRA-NPS0039323; PPWOCRADN0-PCU00RP14.R50000]

Notice of Inventory Completion: Sam Noble Museum of Natural History, Norman, OK

AGENCY: National Park Service, Interior.

ACTION: Notice.

SUMMARY: In accordance with the Native American Graves Protection and Repatriation Act (NAGPRA), the Sam Noble Oklahoma Museum of Natural History (SNOMNH) has completed an inventory of human remains and associated funerary objects and has determined that there is a cultural affiliation between the human remains and associated funerary objects and Indian Tribes or Native Hawaiian organizations in this notice.

DATES: Repatriation of the human remains and associated funerary objects in this notice may occur on or after February 18, 2025.

ADDRESSES: Dr. Marc Levine, Associate Curator of Archaeology, Sam Noble Oklahoma Museum of Natural History, University of Oklahoma, 2401 Chautauqua Avenue, Norman, OK 73072-7029, telephone (405) 325-1994, email mlevine@ou.edu.

SUPPLEMENTARY INFORMATION: This notice is published as part of the National Park Service's administrative responsibilities under NAGPRA. The determinations in this notice are the sole responsibility of the SNOMNH, and additional information on the determinations in this notice, including the results of consultation, can be found in the inventory or related records. The National Park Service is not responsible for the determinations in this notice.

Abstract of Information Available

Human remains representing, at least, 281 individuals were removed from the Raymond Mackey site (34Lf29) in LeFlore County, OK. This site was excavated by the Works Progress Administration in 1940 and transferred to the Museum the same year. The human remains include 62 adult females, 32 adult males, 21 adolescents, 25 children, two infants, one fetus, 60 probable adult females, 41 probable adult males, two females for whom age could not be determined, 18 adults for whom sex could not be determined, and 17 individuals for whom neither age nor sex could be determined. No known individuals were identified. The 169 associated funerary objects are two potsherds, 39 projectile points, one projectile point fragment, three stone manos, two hammerstones, one stone hoe, one boatstone, six stone bifaces, seven bags of stone biface fragments, 17 paintstones, one worked stone, one stone flake, one unmodified piece of quartz, one partial dog skeleton, two bone awls, four bags of awl fragments, two bone beads, two bags of bone fish hook fragments, one bag of bone pin fragments, one worked deer antler, one worked deer ulna, three bags of worked animal bone, 14 bags of deer antler fragments, 44 bags of animal bone fragments, two shell beads, one conch disc, six bags of mussel shell fragments, one snail shell, one burned nut, and one bag of ash. The human remains and associated funerary objects from site 34Lf29 were interred during the Woodland Period (300 B.C.-A.D. 900).

Cultural Affiliation

Based on the information available and the results of consultation, cultural affiliation is clearly identified by the information available about the human remains and associated funerary objects described in this notice.

Determinations

The SNOMNH has determined that:

• The human remains described in this notice represent the physical remains of 281 individuals were of Native American ancestry.

• The 169 objects described in this notice are reasonably believed to have been placed intentionally with or near individual human remains at the time of death or later as part of the death rite or ceremony.

• There is a connection between the human remains and associated funerary objects described in this notice and the Caddo Nation of Oklahoma and the Wichita and Affiliated Tribes (Wichita, Keechi, Waco, & Tawakonie), Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects in this notice to a requestor may occur on or after February 18, 2025. If competing requests for repatriation are received, the SNOMNH must determine the most appropriate requestor prior to repatriation. Requests for joint repatriation of the human remains and associated funerary objects are considered a single request and not competing requests. The SNOMNH is responsible for sending a copy of this notice to the Indian Tribes and Native Hawaiian organizations identified in this notice.

Authority: Native American Graves Protection and Repatriation Act, 25 U.S.C. 3003, and the implementing regulations, 43 CFR 10.10.

Dated: January 6, 2025.
Melanie O'Brien,
Manager, National NAGPRA Program.

[FR Doc. 2025-01014 Filed 1-15-25; 8:45 am]

BILLING CODE 4312-52-P